PUBLIC BUILDINGS REFORM BOARD

Public Meeting of the Public Buildings Reform Board

AGENCY: Public Buildings Reform Board.

ACTION: Meeting notice.

SUMMARY: As provided in section 5 of the Federal Assets Sale and Transfer Act of 2016 (FASTA), the Public Buildings Reform Board (PBRB) gives notice of one upcoming public meeting. At the public meeting in Washington, DC the PBRB will provide an update on its submitted list of recommendations to the Office of Management and Budget (OMB) and discuss expected next steps. The meeting will conclude with time for questions from attendees. Attendees can access the list of properties recommended for disposal on the PBRB website at pbrb.gov/recommendations/.

DATES: The public meeting will be held on Monday, January 13, 2020 in Washington, DC.

ADDRESSES: The public meeting will be held from 9:00 a.m. to 11 a.m., Eastern Time, at 1800 F Street NW, Washington, DC 20006 in the GSA Auditorium.

FOR FURTHER INFORMATION CONTACT: Please email all questions and comments to fastainfo@pbrb.gov.

SUPPLEMENTARY INFORMATION:

Background

FASTA created the PBRB as an independent Board to identify opportunities for the Federal government to significantly reduce its inventory of civilian real property and thereby reduce costs. The Board is directed, within 6 months of its formation, to recommend to the Office of Management and Budget (OMB) the sale of not fewer than five properties not on the list of surplus or excess with a fair market value of not less than $500 million and not more than $750 million. In two subsequent rounds over a five-year period, the Board is responsible for making recommendations for other sales, consolidations, property disposals or redevelopment of up to $7.25 billion.

Attendees can access the current list of properties recommended for disposal on the PBRB website at pbrb.gov/recommendations/.

Format

The format for all public meetings will be panel discussions with appropriate time allowed for Q&A. A portion of the meeting may be held in Executive Session if the Board is considering issues involving classified or proprietary information.

Registration

The meeting is open to the public, but prior registration is required. Please register by Thursday, January 9, 2020. To attend, please register at the following link: https://www.eventbrite.com/e/public-buildings-reform-board-public-meeting-january-13-2020-tickets-86809745285.

Dated: December 19, 2019.
Courtney Johnson,
Executive Officer, Public Buildings Reform Board.

[FR Doc. 2019-28031 Filed 12-23-19; 8:45 am]

BILLING CODE 3412-RT-P